DEPARTMENT OF EDUCATION

Applications for New Awards; Educational Technology, Media, and Materials for Individuals With Disabilities Program—National Center on Digital Access in Education

AGENCY: Office of Special Education and Rehabilitative Services, Department of Education.

ACTION: Notice.

SUMMARY: The Department of Education (Department) is issuing a notice inviting applications for new awards for fiscal year (FY) 2024 for Educational Technology, Media, and Materials for Individuals with Disabilities Program—National Center on Digital Access in Education, Assistance Listing Number 84.327Z. This notice relates to the approved information collection under OMB control number 1820-0028.

DATES:

Applications Available: January 3, 2024.

Deadline for Transmittal of Applications: March 4, 2024.

Deadline for Intergovernmental Review: May 2, 2024.

Pre-Application Webinar Information: No later than January 8, 2024, the Office of Special Education and Rehabilitative Services will post details on pre-recorded informational webinars designed to provide technical assistance (TA) to interested applicants. Links to the webinars may be found at https://www2.ed.gov/fund/grant/apply/osep/new-osep-grants.html.

ADDRESSES: For the addresses for obtaining and submitting an application, please refer to our Common Instructions for Applicants to Department of Education Discretionary Grant Programs, published in the Federal Register on December 7, 2022 (87 FR 75045) and available at www.federalregister.gov/d/2022-26554.

FOR FURTHER INFORMATION CONTACT: Rebecca Sheffield, U.S. Department of Education, 400 Maryland Avenue SW, Room 4A10, Washington, DC 20202. Telephone: (202) 245-6490. Email: rebecca.sheffield@ed.gov.

If you are deaf, hard of hearing, or have a speech disability and wish to access telecommunications relay services, please dial 7-1-1.

SUPPLEMENTARY INFORMATION:

Full Text of Announcement

I. Funding Opportunity Description

Purpose of Program: The purposes of the Educational Technology, Media, and Materials for Individuals with Disabilities Program are to improve results for children with disabilities by (1) promoting the development, demonstration, and use of technology; (2) supporting educational activities designed to be of educational value in the classroom for children with disabilities; (3) providing support for captioning and video description that is appropriate for use in the classroom; and (4) providing accessible educational materials to children with disabilities in a timely manner.

Priority: This competition includes one absolute priority. In accordance with 34 CFR 75.105(b)(2)(v), this priority is from allowable activities specified in the statute (see sections 674(b)(2) and 681(d) of the Individuals with Disabilities Education Act (IDEA) (20 U.S.C. 1400 et seq.).

Absolute Priority: For FY 2024 and any subsequent year in which we make awards from the list of unfunded applications from this competition, this priority is an absolute priority. Under 34 CFR 75.105(c)(3), we consider only applications that meet this priority.

This priority is:

National Center on Digital Access in Education

Background: In order for children with disabilities served under IDEA to benefit from education, special education, and early intervention services, agencies (State educational agencies (SEAs), local educational agencies (LEAs), and Part C lead agencies) and schools must provide accommodations needed by children and families to ensure their access to and participation in learning. Section 504 of the Rehabilitation Act prohibits discrimination against people with disabilities in federally funded programs, and Title II of the Americans with Disabilities Act prohibits discrimination against people with disabilities by public entities, requiring that children with disabilities and their families have equal access to public schools and other government programs. Under Part B of IDEA, special education includes specially designed instruction, defined as “adapting, as appropriate to the needs of an eligible child . . . the content, methodology or delivery of instruction—(i) to address the unique needs of the child that result from the child's disability; and (ii) to ensure access of the child to the general curriculum” (34 CFR 300.39(b)(3)). SEAs, LEAs, and schools are required to provide individualized accommodations, including assistive technologies (34 CFR 300.105), assessment accommodations (34 CFR 300.160), and timely access to accessible materials (34 CFR 300.172), whenever necessary for a child with a disability to fully access and participate in education in the least restrictive environment. Under Part C of IDEA, early intervention services are designed to meet the developmental needs of infants and toddlers with disabilities, as identified through a multidisciplinary evaluation. These services may include assistive technology and supports for communication development for young children (34 CFR 300.13) to enable them to make measurable progress towards results or outcomes identified in their individualized family services plans. Additionally, early intervention services include “the design of learning environments and activities that promote the infant's or toddler's acquisition of skills” (34 CFR 300.13). For these young learners and their families, special instruction, assistive technology, and supports for communication increasingly incorporate digital materials and technologies, including mobile applications, video, and tools for developing print and braille awareness (American Printing House for the Blind, 2022; National Center for Accessible Educational Materials, 2020).

While there have been improvements in the accessibility of digital content in early intervention and education systems, other significant accessibility barriers persist, which deny children with disabilities equitable access and participation in education and early intervention systems. This can ultimately lead to inequities in long-term outcomes such as employment and quality of life opportunities for Americans with disabilities (Shaheen & Watulak, 2019).

A review of the literature on accessibility in K-12 education concluded that there has been a consistent pattern over the last fifteen years of accessibility challenges for learners with disabilities (Shaheen and Watulak, 2019). Increased remote and web-based instruction during the COVID-19 pandemic revealed continued needs for improvement; a study by the American Foundation for the Blind (Rosenblum et al., 2020) found that 85 percent of the 710 teachers of students with visual impairments who responded to an online survey served one or more children enrolled in online general or special education classes during the pandemic who experienced accessibility barriers. Examples of these barriers included lack of support or interoperability for assistive and augmentative technologies needed to access instruction as well as inaccessible online learning materials, which required adults to read or navigate digital materials on a child's behalf. Public concern about the use of inaccessible technologies and digital materials is further confirmed by ongoing receipt by the Department's Office for Civil Rights of numerous allegations concerning the inaccessibility of elementary and secondary schools' websites and online courses.

The wide variety of modern, digital resources and technologies produced by a range of publishers and vendors hold promise for individualized and inclusive learning for children with disabilities in schools and other learning environments. Learners are increasingly presented with open educational resources (OERs), online platforms, and learning management systems which can facilitate faster, greater access to an increasing array of materials and learning tools. Even the youngest learners can benefit when families and service providers are aware of and experienced with digital learning tools and strategies. However, accessibility must be meaningfully and routinely considered during creation, procurement, and curation processes to ensure equitable access to materials and instruction, a process which can sometimes be confusing, time-consuming, and expensive for schools and agencies (Shaheen, 2022). Agencies, administrators, educators, service providers, and other partners in special education and early intervention need support, including training and resources, on current and evidence-based strategies, tools, and systemic interventions to effectively and efficiently provide materials and instruction which are accessible for children with disabilities.

Priority: The purpose of this priority is to fund a cooperative agreement to establish and operate a National Center on Digital Access in Education (Center). The Center will work with key partners ¹ to improve the quality, availability, and timely provision of accessible digital educational materials and instruction,² for children with disabilities.³ The Center funded under this priority will consider digital access to learning for children with disabilities in all learning environments in which children with disabilities are served under Part B and Part C of IDEA.

¹ For the purposes of this priority, “key partners” must include SEAs, LEAs, Part C lead agencies, and relevant OSEP-funded TA centers and may include other partners identified by the Center as essential to the required outcomes of the grant.

² For the purposes of this priority, “accessible digital educational materials and instruction” means electronic educational materials and accompanying technologies, including assessments, which are accessible to children with disabilities, along with any necessary instruction in the use of these materials and technologies and instruction which effectively incorporates these materials and technologies. Children with disabilities and their families must be able to acquire the same information, engage in the same interactions, and enjoy the same services as people who do not have disabilities in an equally integrated and equally effective manner, with substantially equivalent ease of use (U.S. Department of Justice and U.S. Department of Education, June 29, 2010; U.S. Department of Education, May 26, 2011).

³ Applicants should note that other laws, including the Americans with Disabilities Act of 1990 (42 U.S.C. 12101 et seq.; 28 CFR part 35) and section 504 of the Rehabilitation Act of 1973 (29 U.S.C. 794; 34 CFR part 104), may require that State educational agencies and local educational agencies provide captioning, video description, and other accessible educational materials to children with disabilities when such materials are necessary to provide children with disabilities with equally integrated and equally effective access to the benefits of the educational program or activity, or as part of a “free appropriate public education” as defined in the Department of Education's Section 504 regulation.

The Center must achieve, at a minimum, the following expected outcomes:

(a) Increased procurement and production of accessible digital educational technologies and materials by SEAs, LEAs, Part C lead agencies, educators, and service providers, including in areas with the highest percentages of children living in low-income families and in rural and remote areas.

(b) Increased SEA, LEA, and Part C Lead Agency adoption and use of policies and practices which ensure the procurement, curation, and provision of accessible materials, educational tools, and assessments for children with disabilities.

(c) Increased efficiency of SEA and LEA internal accessibility reviews of digital educational technologies, resulting in reduced costs and duplication of efforts.

(d) Increased knowledge and skills of pre-service and in-service general and special educators, related service providers, and TA providers in Office of Special Education Programs (OSEP) funded projects in the selection and preparation of accessible digital educational materials and instruction.

In addition to these programmatic requirements, to be considered for funding under this priority, applicants must meet the application and administrative requirements in this priority, which are:

(a) Demonstrate, in the narrative section of the application under “Significance,” how the proposed project will address the need for accessible digital educational materials and instruction, to support equal opportunities for all children with disabilities. To meet this requirement the applicant must—

(1) Present applicable national, State, regional, or local data demonstrating the need for accessible digital educational materials and instruction in schools and other learning environments, for children with disabilities, including underserved children ⁴ and children whose families may be underserved; ⁵ and

⁴ For the purpose of this priority, “underserved children” refers to children living in poverty or served by schools with high concentrations of children living in poverty; children of color; children who are members of a federally recognized Indian Tribe; English learners; disconnected youth; technologically unconnected youth; migrant children; children experiencing homelessness or housing insecurity; lesbian, gay, bisexual, transgender, queer or questioning, or intersex (LGBTQI+) children; children in foster care; children without documentation of immigration status; pregnant, parenting, or caregiving children; children impacted by the justice system, including those formerly incarcerated; children performing significantly below grade level; and military- or veteran-connected children.

⁵ For the purposes of this priority, “underserved families” refers to foster, kinship, migrant, technologically unconnected, and military- or veteran-connected families; and families of color, living in poverty, without documentation of immigration status, experiencing homelessness or housing insecurity, or impacted by the justice system, including the juvenile justice system. Underserved families also refers to families that include: members of a federally or State recognized Indian Tribe; English learners; adults who experience a disability; members who are lesbian, gay, bisexual, transgender, queer or questioning, or intersex (LGBTQI+); adults in need of improving their basic skills or with limited literacy; and disconnected adults.

(2) Demonstrate knowledge of the following:

(i) Benefits, services, and opportunities accessible digital educational materials and instruction make available to children with disabilities, including children whose families may be underserved;

(ii) Accepted accessibility standards and technical and industry-developed specifications for digital materials and technologies (including those applicable to efficient conversion of educational media into accessible formats ⁶);

⁶ “Accessible Format” is defined in Section 121 of the Copyright Act as “[A]n alternative manner or form that gives an eligible person access to the work when the copy or phonorecord in the accessible format is used exclusively by the eligible person to permit him or her to have access as feasibly and comfortably as a person without such disability.”

(iii) TA resources available to personnel in early learning programs and schools to support the evaluation, design, development, maintenance, distribution, timely delivery, and use of accessible digital educational materials and instruction; and

(iv) Systemic and policy-related barriers, gaps, and challenges with the evaluation and use of OERs, teacher and provider-created resources, and interactive digital resources, to ensure equitable access to learning; and

(v) Challenges and opportunities for personnel preparation programs and TA providers, including projects in OSEP's Technical Assistance and Dissemination Network,⁷ in ensuring that current and future personnel and staff members create accessible digital content and evaluate accessibility of digital content and technologies prior to use.

⁷ See https://osepideasthatwork.org/find-center-or-grant for information about centers funded by the Office of Special Education Programs.

(b) Demonstrate, in the narrative section of the application under “Quality of project services,” how the proposed project will—

(1) Ensure equal access and treatment for members of groups that have traditionally been underrepresented based on race, color, national origin, gender, age, or disability. To meet this requirement, the applicant must describe how it will—

(i) Identify the needs of the intended recipients for TA and information; and

(ii) Ensure that services and products meet the needs of the intended recipients of the Center's services;

(2) Achieve its goals, objectives, and intended outcomes. To meet this requirement, the applicant must provide—

(i) Measurable intended project outcomes;

(ii) In Appendix A, the logic model (as defined in 34 CFR 77.1) by which the proposed project will achieve its intended outcomes that depicts, at a minimum, the goals, activities, outputs, and intended outcomes of the proposed project; and

(iii) A conceptual framework (provide a copy in Appendix A) to develop project plans and activities, describing any underlying concepts, assumptions, expectations, beliefs, or theories, as well as the presumed relationships or linkages among these variables, and any empirical support for this framework;

Note: The following websites provide more information on logic models and conceptual frameworks: https://osepideasthatwork.org/sites/default/files/2021-12/ConceptualFramework_Updated.pdf and www.osepideasthatwork.org/resources-grantees/program-areas/ta-ta/tad-project-logic-model-and-conceptual-framework.

(3) Be based on current research and make use of evidence-based ⁸ practices (EBPs). To meet this requirement, the applicant must describe—

⁸ For the purposes of this priority, “evidence-based” means, at a minimum, evidence that demonstrates a rationale (as defined in 34 CFR 77.1) based on high-quality research findings or positive evaluation that such activity, strategy, or intervention is likely to improve relevant outcomes.

(i) How the proposed project will align with current research, and evidence-based policies, procedures, and practices which support key partners in the selection, procurement, and use of accessible digital educational materials and instruction, for children with disabilities, including those who may be underserved; and

(ii) The current research about adult learning principles and implementation science that will inform the proposed TA;

(4) Develop products and provide services that are of high quality and sufficient intensity and duration to achieve the intended outcomes of the proposed project. To address this requirement, the applicant must describe—

(i) How it proposes to sustain and continuously expand the dynamic knowledge base on—

(A) Evidence-based practices for the evaluation, procurement, curation, and provision of accessible digital educational materials, in schools and other learning environments;

(B) Implementation supports for State and local systems to apply strategies which increase awareness, capacity, and commitment to the procurement, curation, creation, and use of accessible digital educational materials and instruction, for children with disabilities;

(C) Evidence-based approaches to pre-service and in-service preparation of educators, administrators, and service providers that build adult learners' awareness, capacity, and commitment to procurement, curation, creation, and use of accessible digital educational materials and instruction, for children with disabilities; and

(D) Technology design and evaluation criteria that conform to or exceed accepted accessibility standards (e.g., National Instructional Materials Accessibility Standard) and, when appropriate, widely used electronic publishing industry standards (e.g., electronic publication (EPUB) accessibility, Web Content Accessibility Guidelines (WCAG) 2.2 AA, World Wide Web Consortium (W3C) web standards, voluntary product accessibility templates (VPATs));

(ii) Its proposed approach to universal, general TA,⁹ which must describe—

⁹ “Universal, general TA” means TA and information provided to independent users through their own initiative, resulting in minimal interaction with TA project staff and including one-time, invited or offered conference presentations by TA project staff. This category of TA also includes information or products, such as newsletters, guidebooks, or research syntheses, downloaded from the TA project's website by independent users. Brief communications by TA project staff with recipients, either by telephone or email, are also considered universal, general TA.

(A) The intended recipients, including the type and number of recipients, that will receive the products and services;

(B) The products and services that the Center proposes to make available;

(C) The development and maintenance of a high-quality website, with an easy to navigate design, that meets or exceeds government or industry-recognized standards for accessibility;

(D) The expected reach and impact of universal, general TA;

(E) Its proposed plan to disseminate information gained from the work of the National Center on Accessible Educational Materials, from recognized experts and national partners in digital accessibility, and from ongoing knowledge development activities;

(F) Its proposed plan to provide, at a minimum, web-based professional development on the preparation, selection, curation, and provision of accessible digital educational materials, to meet the needs of pre-service and in-service educators and service providers (in both general and special education) in diverse geographic and demographic areas of the United States, using the information described in paragraph (b)(3) of this priority;

(G) Its proposed plan to develop a searchable, user-friendly platform that includes accessibility reviews, accessibility best practices, and strategies for aligning policies and practices to current statutes and standards on accessibility to—

(1) Increase efficiency of SEA and LEA internal accessibility reviews of digital educational technologies, resulting in reduced costs and duplication of efforts; and

(2) Increase access to comprehensive and accurate information about the digital accessibility in schools and other learning environments, including information about IDEA requirements and resources for SEAs and LEAs related to the National Instructional Materials Accessibility Standard; and

(iii) The proposed approach to targeted, specialized TA,¹⁰ which must describe—

¹⁰ “Targeted, specialized TA” means TA services based on needs common to multiple recipients and not extensively individualized. A relationship is established between the TA recipient and one or more TA project staff. This category of TA includes one-time, labor-intensive events, such as facilitating strategic planning or hosting regional or national conferences. It can also include episodic, less labor-intensive events that extend over a period of time, such as facilitating a series of conference calls on single or multiple topics that are designed around the needs of the recipients. Facilitating communities of practice can also be considered targeted, specialized TA.

(A) The intended recipients, including the type and number of recipients, that will receive the products and services;

(B) The proposed plan to provide TA to key partners based on—

(1) The findings of the Center's ongoing work to sustain and continuously expand the dynamic knowledge base described in paragraph (b)(4)(i);

(2) The Quality Indicators for the Provision of Accessible Educational Materials and Technologies and the aligned Critical Components and Innovation Configurations developed by the OSEP-funded National Center for Accessible Educational Materials; ¹¹

¹¹ See https://aem.cast.org/coordinate/quality-indicators-provision-accessible-materials-technologies.

(C) The products and services that the Center proposes to make available;

(D) The proposed approach to measure the readiness of potential TA recipients to work with the project, including, at a minimum, an assessment of potential recipients' current infrastructure, available resources, and ability to build capacity at the local level;

(E) The proposed plan to support key partners in collecting and reporting data to identify gaps and facilitate systematic improvements in the production, curation, and provision of accessible digital educational materials and instruction;

(F) The proposed plan to work with SEAs, assessment developers, and other key partners as necessary to resolve challenges specific to digital accessibility in large-scale assessments of children with disabilities; and

(G) The proposed plan to include publishers, OER producers, and technology vendors, in collaboration with key partners, to increase accessibility of digital educational materials, in schools and other learning environments; and

(iv) How the proposed project will intentionally engage families of children with disabilities and individuals with disabilities, including underserved families and individuals in the development, implementation, and evaluation of its products and services across all levels of TA;

(5) Develop products and implement services that maximize efficiency. To address this requirement, the applicant must describe—

(i) How the proposed project will use technology to achieve the intended project outcomes;

(ii) With whom the proposed project will collaborate and the intended outcomes of this collaboration; and

(iii) How the proposed project will use non-project resources to achieve the intended project outcomes; and

(6) How the project will systematically disseminate information, products, and services to varied intended audiences. To address this requirement the applicant must describe—

(i) The variety of dissemination strategies the Center will use throughout the four years of the project to promote awareness and use of its products and services.

(ii) How the project will evaluate and tailor its dissemination strategies across all planned levels of TA on an ongoing basis to ensure that products and services reach intended recipients and those recipients can access and use those products and services;

(iii) How the project's dissemination plan is connected to the proposed outcomes of the project; and

(iv) How the project will evaluate and, if necessary, remediate all digital products and external communications to ensure they meet or exceed government or industry-recognized standards for accessibility.

(c) In the narrative section of the application under “Quality of the project evaluation,” include an evaluation plan for the project developed in consultation with and implemented by a third-party evaluator.¹² The evaluation plan must—

¹² A “third-party” evaluator is an independent and impartial program evaluator who is contracted by the grantee to conduct an objective evaluation of the project. This evaluator must not have participated in the development or implementation of any project activities, except for the evaluation activities, nor have any financial interest in the outcome of the evaluation.

(1) Articulate formative and summative evaluation questions across all planned levels of TA, including important process and outcome evaluation questions. These questions should be related to the project's proposed logic model required in paragraph (b)(2)(ii) of this notice;

(2) Describe how progress in and fidelity of implementation, as well as project outcomes, will be measured to answer the evaluation questions.

Note: In measuring progress of implementation across all levels of TA, the plan should include criteria for determining the extent to which the project's products and services reached intended recipients, data, including feedback from recipients, on how recipients used the products and services, and the impact of the products and services. The plan should also specify sources for data, and measures and instruments appropriate to the evaluation questions, including information on reliability and validity of the measures and associated instruments where appropriate.

(3) Describe strategies for analyzing data and how data collected as part of this plan will be used to inform and improve service delivery over the course of the project and to refine the proposed logic model and evaluation plan, including subsequent data collection;

(4) Provide a timeline for conducting the evaluation and include staff assignments for completing the plan. The timeline must indicate that the data will be available annually for the annual performance report (APR); and

(5) Dedicate sufficient funds in each budget year to cover the costs of developing or refining the evaluation plan in consultation with a third-party evaluator, as well as the costs associated with the implementation of the evaluation plan by the third-party evaluator.

(d) Demonstrate, in the narrative section of the application under “Adequacy of resources and quality of project personnel,” how—

(1) The proposed project will encourage applications for employment from persons who are members of groups that have traditionally been underrepresented based on race, color, national origin, gender, age, or disability, as appropriate;

(2) The proposed key project personnel, consultants, and subcontractors have the qualifications and experience to carry out the proposed activities and achieve the project's intended outcomes;

(3) The applicant and any key partners have adequate resources to carry out the proposed activities;

(4) The proposed project will have processes, resources, and funds in place to provide equitable access for project staff, contractors, and partners, who require digital accessibility accommodations; ¹³ and

¹³ For information about digital accessibility and accessibility standards from Section 508 of the Rehabilitation Act, visit https://osepideasthatwork.org/resources-grantees/508-resources.

(5) The proposed costs are reasonable in relation to the anticipated results and benefits, and funds will be spent in a way that increases their efficiency and cost-effectiveness, including by reducing waste or achieving better outcomes.

(e) Demonstrate, in the narrative section of the application under “Quality of the management plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks;

(2) Key project personnel and any consultants and subcontractors will be allocated and how these allocations are appropriate and adequate to achieve the project's intended outcomes;

(3) The proposed management plan will ensure that the products and services provided are of high quality, relevant, and useful to recipients; and

(4) The proposed project will benefit from a diversity of partner perspectives, including those of families, educators, TA providers, researchers, and policy makers, among others, in its development and operation.

(f) Address the following application requirements. The applicant must—

(1) Include, in Appendix A, personnel-loading charts and timelines, as applicable, to illustrate the management plan described in the narrative;

(2) Include, in the budget, attendance at the following:

(i) A one and one-half day kick-off meeting in Washington, DC, after receipt of the award, and an annual planning meeting in Washington, DC, with the OSEP project officer and other relevant staff during each subsequent year of the project period.

Note: Within 30 days of receipt of the award, a post-award teleconference must be held between the OSEP project officer and the grantee's project director or other authorized representative;

(ii) A three-day project directors' conference in Washington, DC, during each year of the project period. The project must reallocate funds for travel to the project directors' conference no later than the end of the third quarter of each budget period if the conference is conducted virtually; and

(iii) Two annual two-day trips to attend Department briefings, Department-sponsored conferences, and other meetings, as requested by OSEP; and

(3) Include, in the budget, a line item for an annual set-aside of 5 percent of the grant amount to support emerging needs that are consistent with the proposed project's intended outcomes, as those needs are identified in consultation with, and approved by, the OSEP project officer. With approval from the OSEP project officer, the project must reallocate any remaining funds from this annual set-aside no later than the end of the third quarter of each budget period;

(4) Engage doctoral students or post-doctoral fellows, including those who are multilingual and racially, ethnically, and culturally diverse, in the project to increase the number of future leaders in the field who are knowledgeable about digital accessibility and related technologies in educational and early-learning contexts;

(5) Maintain a high-quality website;

(6) Ensure that annual project progress toward meeting project goals is posted on the project website; and

(7) Include, in Appendix A, an assurance to assist OSEP with the transfer of pertinent resources and products and to maintain the continuity of services to States during the transition to a new award at the end of this award period, as appropriate.

Under 34 CFR 75.253, the Secretary may reduce continuation awards or discontinue awards in any year of the project period for excessive carryover balances, a failure to make substantial progress, or has not maintained financial and administrative management systems that meet requirements in 2 CFR 200.302, Financial Management, and 200.303, Internal controls. The Department intends to closely monitor unobligated balances and substantial progress under this program and may reduce or discontinue funding accordingly.

References:

American Printing House for the Blind. (2022). Building your early childhood toolkit. www.aph.org/building-your-early-childhood-toolkit/.

National Center on Accessible Educational Materials. (2020). AEM Quality Indicators with Critical Components for Early Childhood. https://aem.cast.org/binaries/content/assets/common/publications/aem/ec-aem-qualityindicators-criticalcomponents.pdf.

Rosenblum, L.P., Herzberg, T.S., Wild, T., Botsford, K.D., Fast, D., Kaiser, J.T., Cook, L.K., Hicks, M.A., DeGrant, J.N., & McBride, C.R. (2020). Access and engagement: Examining the impact of COVID-19 on students birth-21 with visual impairments, their families, and professionals in the United States and Canada, executive summary. https://afb.org/research-and-initiatives/education/covid19-education-research.

Shaheen, N.L. (2022). Technology accessibility: How U.S. K-12 schools are enacting policy and addressing the equity imperative. Computers & Education, 179. https://doi.org/10.1016/j.compedu.2021.104414.

Shaheen, N.L., & Watulak, S.L. (2019). Bringing disability into the discussion: Examining technology accessibility as an equity concern in the field of instructional technology. Journal of Research on Technology in Education, 51(2), 187-201. https://doi.org/10.1080/15391523.2019.1566037.

U.S. Department of Education. (2011, May 26). Frequently asked questions about the June 29, 2010 dear colleague letter. www.ed.gov/ocr/docs/dcl-ebook-faq-201105.pdf.

U.S. Department of Justice and U.S. Department of Education. (2010, June 29). Joint “Dear Colleague” letter: Electronic book readers. https://www2.ed.gov/about/offices/list/ocr/letters/colleague-20100629.html.

Waiver of Proposed Rulemaking: Under the Administrative Procedure Act (APA) (5 U.S.C. 553) the Department generally offers interested parties the opportunity to comment on proposed priorities. Section 681(d) of IDEA, however, makes the public comment requirements of the APA inapplicable to the priority in this notice.

Program Authority: 20 U.S.C. 1474 and 1481.

Note: Projects will be awarded and must be operated in a manner consistent with the nondiscrimination requirements contained in Federal civil rights laws.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR part 79 apply to all applicants except federally recognized Indian Tribes.

Note: The regulations in 34 CFR part 86 apply to institutions of higher education (IHEs) only.

II. Award Information

Type of Award: Cooperative agreement.

Estimated Available Funds: The Administration has requested $41,433,000 for the Educational Technology, Media, and Materials for Individuals with Disabilities program for FY 2024, of which we intend to use an estimated $1,800,000 for this competition. The actual level of funding, if any, depends on final congressional action. However, we are inviting applications to allow enough time to complete the grant process if Congress appropriates funds for this program.

Contingent upon the availability of funds and the quality of applications, we may make additional awards in FY 2025 from the list of unfunded applications from this competition.

Maximum Award: We will not make an award exceeding $1,800,000 for a single budget period of 12 months.

Estimated Number of Awards: 1.

Note: The Department is not bound by any estimates in this notice.

Project Period: Up to 48 months.

III. Eligibility Information

1. Eligible Applicants: SEAs; LEAs, including public charter schools that are considered LEAs under State law; IHEs; other public agencies; private nonprofit organizations; freely associated States and outlying areas; Indian Tribes or Tribal organizations; and for-profit organizations.

2. a. Cost Sharing or Matching: This competition does not require cost sharing or matching.

b. Indirect Cost Rate Information: This program uses an unrestricted indirect cost rate. For more information regarding indirect costs, or to obtain a negotiated indirect cost rate, please see www2.ed.gov/about/offices/list/ocfo/intro.html.

c. Administrative Cost Limitation: This program does not include any program-specific limitation on administrative expenses. All administrative expenses must be reasonable and necessary and conform to Cost Principles described in 2 CFR part 200 subpart E of the Uniform Guidance.

3. Subgrantees: Under 34 CFR 75.708(b) and (c), a grantee under this competition may award subgrants—to directly carry out project activities described in its application—to the following types of entities: IHEs, nonprofit organizations suitable to carry out the activities proposed in the application, and public agencies. The grantee may award subgrants to entities it has identified in an approved application or that it selects through a competition under procedures established by the grantee, consistent with 34 CFR 75.708(b)(2).

4. Other General Requirements:

(a) Recipients of funding under this competition must make positive efforts to employ and advance in employment qualified individuals with disabilities (see section 606 of IDEA).

(b) Applicants for, and recipients of, funding must, with respect to the aspects of their proposed project relating to the absolute priority, involve individuals with disabilities, or parents of individuals with disabilities ages birth through 26, in planning, implementing, and evaluating the project (see section 682(a)(1)(A) of IDEA).

IV. Application and Submission Information

1. Application Submission Instructions: Applicants are required to follow the Common Instructions for Applicants to Department of Education Discretionary Grant Programs, published in the Federal Register on December 7, 2022 (87 FR 75045) and available at www.federalregister.gov/d/2022-26554, which contain requirements and information on how to submit an application.

2. Intergovernmental Review: This competition is subject to Executive Order 12372 and the regulations in 34 CFR part 79. Information about Intergovernmental Review of Federal Programs under Executive Order 12372 is in the application package for this competition.

3. Funding Restrictions: We reference regulations outlining funding restrictions in the Applicable Regulations section of this notice.

4. Recommended Page Limit: The application narrative is where you, the applicant, address the selection criteria that reviewers use to evaluate your application. We recommend that you (1) limit the application narrative to no more than 70 pages and (2) use the following standards:

• A “page” is 8.5″ x 11″, on one side only, with 1″ margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial.

The recommended page limit does not apply to the cover sheet; the budget section, including the narrative budget justification; the assurances and certifications; or the abstract (follow the guidance provided in the application package for completing the abstract), the table of contents, the list of priority requirements, the resumes, the reference list, the letters of support, image descriptions provided for accessibility, or the appendices. However, the recommended page limit does apply to all of the application narrative, including all text in charts, tables, figures, graphs, and screen shots.

V. Application Review Information

1. Selection Criteria: The selection criteria for this competition are from 34 CFR 75.210 and are listed below:

(a) Significance (10 points).

(1) The Secretary considers the significance of the proposed project.

(2) In determining the significance of the proposed project, the Secretary considers the following factors:

(i) The extent to which specific gaps or weaknesses in services, infrastructure, or opportunities have been identified and will be addressed by the proposed project, including the nature and magnitude of those gaps or weaknesses; and

(ii) The importance or magnitude of the results or outcomes likely to be attained by the proposed project.

(iii) The extent to which the proposed project is likely to build local capacity to provide, improve, or expand services that address the needs of the target population.

(b) Quality of project services (35 points).

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability.

(3) In addition, the Secretary considers the following factors:

(i) The extent to which the goals, objectives, and outcomes to be achieved by the proposed project are clearly specified and measurable;

(ii) The extent to which there is a conceptual framework underlying the proposed research or demonstration activities and the quality of that framework;

(iii) The extent to which the services to be provided by the proposed project reflect up-to-date knowledge from research and effective practice;

(iv) The extent to which the training or professional development services to be provided by the proposed project are of sufficient quality, intensity, and duration to lead to improvements in practice among the recipients of those services;

(v) The extent to which the services to be provided by the proposed project involve the collaboration of appropriate partners for maximizing the effectiveness of project services; and

(vi) The extent to which the TA services to be provided by the proposed project involve the use of efficient strategies, including the use of technology, as appropriate, and the leveraging of non-project resources.

(c) Quality of the project evaluation (20 points).

(1) The Secretary considers the quality of the evaluation to be conducted of the proposed project.

(2) In determining the quality of the evaluation, the Secretary considers the following factors:

(i) The extent to which the methods of evaluation are thorough, feasible, and appropriate to the goals, objectives, and outcomes of the proposed project.

(ii) The extent to which the methods of evaluation include the use of objective performance measures that are clearly related to the intended outcomes of the project and will produce quantitative and qualitative data to the extent possible;

(iii) The extent to which the methods of evaluation will provide performance feedback and permit periodic assessment of progress toward achieving intended outcomes.

(d) Adequacy of resources and quality of project personnel (15 points).

(1) The Secretary considers the adequacy of resources for the proposed project and the quality of the personnel who will carry out the proposed project.

(2) In determining the quality of project personnel, the Secretary considers the extent to which the applicant encourages applications for employment from persons who are members of groups that have traditionally been underrepresented based on race, color, national origin, gender, age, or disability.

(3) In addition, the Secretary considers the following factors:

(i) The qualifications, including relevant training and experience, of the project director or principal investigator.

(ii) The qualifications, including relevant training and experience, of key project personnel.

(iii) The qualifications, including relevant training and experience, of project consultants or subcontractors.

(iv) The qualifications, including relevant training, experience, and independence, of the evaluator.

(v) The adequacy of support, including facilities, equipment, supplies, and other resources, from the applicant organization or the lead applicant organization.

(vi) The relevance and demonstrated commitment of each partner in the proposed project to the implementation and success of the project.

(vii) The extent to which the budget is adequate to support the proposed project.

(viii) The extent to which the costs are reasonable in relation to the objectives, design, and potential significance of the proposed project.

(e) Quality of the management plan (20 points).

(1) The Secretary considers the quality of the management plan for the proposed project.

(2) In determining the quality of the management plan for the proposed project, the Secretary considers the following factors:

(i) The adequacy of the management plan to achieve the objectives of the proposed project on time and within budget, including clearly defined responsibilities, timelines, and milestones for accomplishing project tasks.

(ii) The adequacy of procedures for ensuring feedback and continuous improvement in the operation of the proposed project;

(iii) The extent to which the time commitments of the project director and principal investigator and other key project personnel are appropriate and adequate to meet the objectives of the proposed project.

(iv) How the applicant will ensure that a diversity of perspectives are brought to bear in the operation of the proposed project, including those of parents, teachers, the business community, a variety of disciplinary and professional fields, recipients or beneficiaries of services, or others, as appropriate.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications.

4. Risk Assessment and Specific Conditions: Consistent with 2 CFR 200.206, before awarding grants under this competition the Department conducts a review of the risks posed by applicants. Under 2 CFR 200.208, the Secretary may impose specific conditions, and under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

6. In General: In accordance with the Office of Management and Budget's guidance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: For the purpose of Department reporting under 34 CFR 75.110, we have established a set of performance measures, including long-term measures, that are designed to yield information on various aspects of the effectiveness and quality of the Educational Technology, Media, and Materials for Individuals with Disabilities Program. These measures are:

• Program Performance Measure #1: The percentage of Educational Technology, Media, and Materials Program products and services judged to be of high quality by an independent review panel of experts qualified to review the substantial content of the products and services.

• Program Performance Measure #2: The percentage of Educational Technology, Media, and Materials Program products and services judged to be of high relevance to improving outcomes for infants, toddlers, children, and youth with disabilities.

• Program Performance Measure #3: The percentage of Educational Technology, Media, and Materials Program products and services judged to be useful in improving results for infants, toddlers, children, and youth with disabilities.

• Program Performance Measure #4.1: The Federal cost per unit of accessible educational materials funded by the Educational Technology, Media, and Materials Program.

• Program Performance Measure #4.2: The Federal cost per unit of accessible educational materials from the National Instructional Materials Accessibility Center funded by the Educational Technology, Media, and Materials Program.

• Program Performance Measure #4.3: The Federal cost per unit of video description funded by the Educational Technology, Media, and Materials Program (long-term measure).

The measures apply to projects funded under this competition, and grantees are required to submit data on these measures as directed by OSEP.

Grantees will be required to report information on their project's performance in annual and final performance reports to the Department (34 CFR 75.590).

The Department will also closely monitor the extent to which the products and services provided by the Center meet needs identified by partners and may require the Center to report on such alignment in their annual and final performance reports.

6. Continuation Awards: In making a continuation award under 34 CFR 75.253, the Secretary considers, among other things: whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Danté Allen,
Commissioner, Rehabilitation Services Administration, Office of Special Education and Rehabilitative Services.

[FR Doc. 2023-28871 Filed 1-2-24; 8:45 am]

BILLING CODE 4000-01-P